DEPARTMENT OF STATE

[Public Notice 5054]

Determination Pursuant to Section 1(b) of Executive Order 13224 Relating to Lashkar-e-Tayyiba (LT, LeT), aka Lashkar-e-Toiba, aka Lashkar-i-Taiba, aka al Mansoorian, aka al Mansooreen, aka Army of the Pure, aka Army of the Righteous, aka Army of the Pure and Righteous

Acting under the authority of section 1(b) of Executive Order 13224 of September 23, 2001, as amended, and in consultation with the Secretary of the Treasury, the Attorney General, and the Secretary of Homeland Security, I hereby determine that Lashkar-e-Tayyiba uses or has used the following aliases in addition to those listed above: Paasban-e-Kashmir, Paasban-i-Ahle-Hadith, Pasban-e-Kashmir, Pasban-e-Ahle-Hadith, and Paasban-e-Ahle-Hadis

I hereby amend the designation of Lashkar-e-Tayyiba (and its aliases) to add the following names as aliases together with any transliterations of these names:

aka Paasban-e-Kashmir

aka Paasban-i-Ahle-Hadith

aka Pasban-e-Kashmir

aka Pasban-e-Ahle-Hadith

aka Paasban-e-Ahle-Hadis

Consistent with the determination in section 10 of Executive Order 13224 that “prior notice to persons determined to be subject to the Order who might have a constitutional presence in the United States would render ineffectual the blocking and other measures authorized in the Order because of the ability to transfer funds instantaneously,” no prior notice need be provided to any person subject to this determination who might have a constitutional presence in the United States, because to do so would render ineffectual the measures authorized in the Order.

This notice shall be published in the Federal Register.

Dated: April 13, 2005.
Condoleezza Rice,
Secretary of State, Department of State.

[FR Doc. 05-7799 Filed 4-18-05; 8:45 am]

BILLING CODE 4710-10-P